SECURITIES AND EXCHANGE COMMISSION

Submission for OMB Review; Comment Request; Reinstatement

Upon written request, copies available from: Securities and Exchange Commission, Office of Filings and Information Services, Washington, DC 20549.

“Tell Us How We're Doing!”; SEC File No. 270-406; OMB Control No. 3235-0463.

Notice is hereby given that, pursuant to the Paperwork Reduction Act of 1995 (44 U.S.C. 3501 et seq.), the Securities and Exchange Commission (“Commission”) has submitted to the Office of Management and Budget a request to approve the collection of information discussed below.

The title of the questionnaire is “Tell Us How We're Doing!”

The Commission currently sends the questionnaire to persons who have used the services of the Commission's Office of Investor Education and Assistance. The questionnaire consists mainly of eight (8) questions concerning the quality of services provided by OIEA. Most of the questions can be answered by checking a box on the questionnaire.

The Commission needs the information to evaluate the quality of services provided by OIEA. Supervisory personnel of OIEA use the information collected in assessing staff performance and for determining what improvements or changes should be made in OIEA operations for services provided to investors.

The respondents to the questionnaire are those investors who request assistance or information from OIEA. For 2004, for example, the number of investors who responded was 23, or about 7 percent.

The total reporting burden of the questionnaire in 2004 was approximately 5 hours and 45 minutes. This was calculated by multiplying the total number of investors who responded to the questionnaire times how long it is estimated to take to complete the questionnaire (23 respondents × 15 minutes = 5 hours and 45 minutes).

Providing the information on the questionnaire is voluntary and responses are kept confidential.

Members of the public should be aware that an agency may not conduct or sponsor, and a person is not required to respond to, a collection of information unless a currently valid Office of Management and Budget control number is displayed.

General comments regarding the above information should be directed to the following persons: (i) Desk Officer for the Securities and Exchange Commission, Office of Information and Regulatory Affairs, Office of Management and Budget, Room 10102, New Executive Office Building, Washington, DC 20503; and (ii) R. Corey Booth, Director, Office of Information Technology, Securities and Exchange Commission, 100 F Street, NE., Washington, DC 20549. Comments must be submitted to OMB within 30 days of this notice.

Dated: July 27, 2005.
Margaret H. McFarland,
Deputy Secretary.

[FR Doc. E5-4141 Filed 8-3-05; 8:45 am]

BILLING CODE 8010-01-P